DEPARTMENT OF HEALTH AND HUMAN SERVICES

Administration for Children and Families

Proposed Information Collection Activity; Comment Request

Title: Behavioral Interventions to Advance Self-Sufficiency Next Generation (BIAS-NG).

OMB No.: New Collection.

Description: The Office of Planning, Research and Evaluation (OPRE) in the Administration for Children and Families (ACF), U.S. Department of Health and Human Services (HHS) requests Office of Management and Budget (OMB) approval for a 3-year pilot generic clearance to collect data as part of rapid cycle testing and evaluation, in order to inform the design of interventions informed by behavioral science and to better understand the mechanisms and effects of such interventions. These interventions, which will be in the program area domains of Temporary Assistance for Needy Families (TANF) and child welfare, are intended to improve outcomes for participants in these programs.

OPRE plans to conduct the Behavioral Interventions to Advance Self-Sufficiency Next Generation (BIAS-NG) project. This project will use behavioral insights to design and test interventions intended to improve the efficiency, operations, and efficacy of human services programs. The BIAS-NG project will apply behavioral insights to a range of ACF programs including TANF, Child Welfare, and other program areas to be determined. This notice is specific to data collection with TANF and Child Welfare sites; when and if the project desires to work in other program areas, OPRE will publish a Federal Register notice allowing for public comment and will submit a new information collection request for that work. Under this pilot generic clearance, OPRE plans to work with approximately six sites to conduct approximately two tests per site, for a total of approximately 12 tests of behavioral interventions.

The design and testing of BIAS NG interventions will be rapid and iterative. Each specific intervention will be designed in consultation with agency leaders and launched quickly. To maximize the likelihood that the intervention produces measurable, significant, positive effects on outcomes of interest, rapid cycle evaluation techniques will be employed in which proximate outcomes will be measured to allow the research team to rapidly iterate and adjust the intervention design, informing subsequent tests. Due to the rapid and iterative nature of this work OPRE seeks generic clearance to conduct this research. Following standard OMB requirements for generic clearances, once instruments are tailored to a specific site and the site's intervention, OPRE will submit an individual generic information collection request under this umbrella clearance. Each request will include the individual instrument(s), a justification specific to the individual information collection, a description of the proposed intervention, and any supplementary documents. Each specific information collection will include two submissions: First, a submission for the formative stage research and second, a submission for the test and evaluation materials. In this notice we describe the types of information expected to be collected for each test and the expected burden.

To ensure maximal relevance to the domain areas selected (i.e., Child Welfare and TANF), the project has identified a set of broad problems that affect entire domain areas rather than problems that are idiosyncratic to a particular program. In each of the approximately six sites with which the project will work under this clearance, interventions will be designed and tested using an approach called behavioral diagnosis and design which will involve determining how identified problems operate within each site's specific context, diagnosing behavioral reasons for those problems, designing interventions informed by behavioral insights, and rigorously testing the interventions. Information will be collected throughout this process. The information that will be collected is specific to each of the sites, will not be collected indefinitely, and is not intended to be interpreted as applicable to other sites or to other programs. In addition, in working with the project to design the behavioral interventions to be tested, some sites may decide to change what data they collect and/or the questions they ask the public to answer. Such decisions will be controlled by the sites, not by the project.

In order to define and diagnose program challenges and design appropriate interventions, OPRE plans to conduct interviews and focus groups with administrators, staff, and/or clients in each of the approximately six sites. OPRE will field client and/or staff surveys in order to hear from a breadth of perspectives. In addition to interviews, focus groups, and surveys, OPRE anticipates observing program activities and reviewing documents and administrative data. This information will be critical to diagnosing where and why programs are facing challenges and which behavioral interventions may have an impact.

During the testing phase OPRE anticipates conducting mixed-methods evaluations consisting of implementation, impact, and cost research for the approximately two tests in each of the approximately six total sites that will be engaged across the two program areas included under this clearance, TANF and Child Welfare (for a total of 12 tests). To better understand how the intervention is being implemented and its effects, OPRE anticipates conducting interviews and focus groups with program administrators, staff, and/or clients in each site. Because not all outcomes of interest (for example, improved understanding of and/or satisfaction with the foster parent recruitment process) are reflected in administrative records, OPRE anticipates conducting client surveys and staff surveys.

Interest in participating in BIAS-NG is expected to be high, and it is not expected that systematic recruitment of sites will be necessary. Within each site, we do not intend to do any active recruitment as all those who are eligible will be enrolled in the study and randomization will be conducted using a list of those who meet the eligibility criteria. Findings from these tests will be publicized through multiple dissemination channels, which may include but are not limited to reports on individual tests, a final synthesis report, presentations at conferences and meetings, scholarly journal articles, webinars, social media, press outreach, newsletters, etc.

Respondents: (1) Program Administrators (2) Program Staff and (3) Program Clients.

Total Burden Hours
Instrument | Total number of respondents | Number of responses per respondent | Average burden hours per response | Total burden hours
Diagnosis and Design Phase:
Administrator interviews/focus groups | 24 | 1 | 1 | 24
Staff interviews/focus groups | 48 | 1 | 1 | 48
Client interviews/focus groups | 48 | 1 | 1 | 48
Client survey | 600 | 1 | .25 | 150
Staff Survey | 120 | 1 | .25 | 30
Evaluation Phase:
Administrator interviews/focus groups | 48 | 1 | 1 | 48
Staff interviews/focus groups | 96 | 1 | 1 | 96
Client interviews/focus groups | 96 | 1 | 1 | 96
Client Survey | 6,000 | 1 | .25 | 1,500
Staff survey | 120 | 1 | .25 | 30

Estimated Total Burden Hours: 2,070 hours.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 330 C Street SW., Washington, DC 20201, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary Jones,
ACF/OPRE Certifying Officer.

[FR Doc. 2017-10526 Filed 5-22-17; 8:45 am]

BILLING CODE 4184-07-P